DEPARTMENT OF THE INTERIOR

National Park Service

[NPS-WASO-NAGPRA-NPS0025557: PPWOCRADN0-PCU00RP14.R50000]

Notice of Inventory Completion: Berkshire Museum, Pittsfield, MA

AGENCY: National Park Service, Interior.

ACTION: Notice.

SUMMARY: The Berkshire Museum has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Berkshire Museum. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Berkshire Museum at the address in this notice by July 18, 2018.

ADDRESSES: Jason Vivori, Berkshire Museum, 39 South Street, Pittsfield, MA 01201, telephone (413) 443-7171 ext. 341, email jvivori@berkshiremuseum.org.

SUPPLEMENTARY INFORMATION: Notice is here given in accordance with the Native American Graves Protection and Repatriation Act (NAGPRA), 25 U.S.C. 3003, of the completion of an inventory of human remains under the control of the Berkshire Museum, Pittsfield, MA. The human remains were removed from Yankton, Yankton County, SD.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Berkshire Museum professional staff in consultation with Ann Marie Mires of the Department of Anthropology at the University of Massachusetts, Amherst, MA. Several attempts were made to contact the Yankton Sioux Tribe of South Dakota's NAGPRA representative by telephone in mid-November of 1995. Also, a letter with the inventory and osteological analysis was sent to the tribe by mail on November 16, 1995. There was no response to the letter by the Yankton Sioux Tribe of South Dakota at that time.

History and Description of the Remains

At an unknown date, human remains representing, at minimum, one individuals were removed from “a mound” in South Dakota. A typed note stored with the skull states “Skull. Found by Rev. Edward R. Bradley, Lincoln Mass. Found in a mound in open prairie. The top of the mound was flat and twenty feet across. They were digging a cellar for a house and found other bones besides, Presented by P. Bradley.” Handwritten in pencil on the note “S. Dakota Yankton.” Marked in ink on the right and left parietal section of the skull is “48286 S. Dak,” and marked in ink on the frontal section of the skull is “48286 S.D.” No known individuals were identified.

The age and exact location of the site is unknown, based on available records. No accession record or documentation of donation to the Berkshire Museum has been found. Osteological examination was performed by Ann Marie Mires of the Department of Anthropology at the University of Massachusetts, Amherst, MA, and a completed report was submitted to the Berkshire Museum on November 9, 1995. Based on the examination Ms. Mires was able to determine that the skull probably belonged to a female individual between 30 and 50 years of age. Biological affinity was determined “Native American or Mongoloid” due to a “series of morphological and metric characteristics.” These measurements were deemed tentative “due to the fragmentary nature of the remains,” and might suggest “a mixed racial ancestry for this individual, combing Caucasian and Mongoloid descent.”

Determinations Made by the Berkshire Museum

Officials of the Berkshire Museum have determined that:

• Pursuant to 25 U.S.C. 3001(9), the human remains described in this notice represent the physical remains of one individual of Native American ancestry.

• Pursuant to 25 U.S.C. 3001(2), there is a relationship of shared group identity that can be reasonably traced between the Native American human remains and the Yankton Sioux Tribe of South Dakota.

Additional Requestors and Disposition

Lineal descendants or representatives of any Indian Tribe or Native Hawaiian organization not identified in this notice that wish to request transfer of control of these human remains should submit a written request with information in support of the request to Jason Vivori, Berkshire Museum, 39 South Street, Pittsfield, MA 01201, telephone (413) 443-7171 ext. 341, email jvivori@berkshiremuseum.org, by July 18, 2018. After that date, if no additional requestors have come forward, transfer of control of the human remains to the Yankton Sioux Tribe of South Dakota may proceed.

The Berkshire Museum is responsible for notifying the Yankton Sioux Tribe of South Dakota that this notice has been published.

Dated: May 9, 2018.
Melanie O'Brien,
Manager, National NAGPRA Program.

[FR Doc. 2018-13042 Filed 6-15-18; 8:45 am]

BILLING CODE 4312-52-P